DEPARTMENT OF TRANSPORTATION

Federal Aviation Administration

14 CFR Part 71

[Docket No. FAA-2017-0344; Airspace Docket No. 17-AWP-11]

Proposed Modification of Air Traffic Service (ATS) Routes; Western United States

AGENCY: Federal Aviation Administration (FAA), DOT.

ACTION: Notice of proposed rulemaking (NPRM).

SUMMARY: This action proposes to modify VOR Federal Airways V-113 and V-244 which caused navigational aid gaps due to the decommissioning of Manteca and Maxwell VORs.

DATES: Comments must be received on or before October 16, 2017.

ADDRESSES: Send comments on this proposal to the U.S. Department of Transportation, Docket Operations, 1200 New Jersey Avenue SE., West Building Ground Floor, Room W12-140, Washington, DC 20590; telephone: 1 (800) 647-5527, or (202) 366-9826. You must identify FAA Docket No. FAA-2017-0344 and Airspace Docket No. 17-AWP-11 at the beginning of your comments. You may also submit comments through the Internet at http://www.regulations.gov. You may review the public docket containing the proposal, any comments received, and any final disposition in person in the Dockets Office between 9:00 a.m. and 5:00 p.m., Monday through Friday, except Federal holidays. The Docket Office (telephone 1 (800) 647-5527), is on the ground floor of the building at the above address.

FAA Order 7400.11A, Airspace Designations and Reporting Points, and subsequent amendments can be viewed online at http://www.faa.gov/air_traffic/publications/. For further information, you can contact the Airspace Policy Group, Federal Aviation Administration, 800 Independence Avenue SW., Washington, DC 20591; telephone: (202) 267-8783. The Order is also available for inspection at the National Archives and Records Administration (NARA). For information on the availability of FAA Order 7400.11A at NARA, call (202) 741-6030, or go to http://www.archives.gov/federal_register/code_of_federal-regulations/ibr_locations.html.

FAA Order 7400.11, Airspace Designations and Reporting Points, is published yearly and effective on September 15.

FOR FURTHER INFORMATION CONTACT: Kenneth Ready, Airspace Policy Group, Office of Airspace Services, Federal Aviation Administration, 800 Independence Avenue SW., Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the route structure as necessary to preserve the safe and efficient flow of air traffic within the National Airspace System (NAS).

Comments Invited

Interested parties are invited to participate in this proposed rulemaking by submitting such written data, views, or arguments as they may desire. Comments that provide the factual basis supporting the views and suggestions presented are particularly helpful in developing reasoned regulatory decisions on the proposal. Comments are specifically invited on the overall regulatory, aeronautical, economic, environmental, and energy-related aspects of the proposal. Communications should identify both docket numbers (FAA Docket No. FAA-2017-0344 and Airspace Docket No. 17-AWP-11) and be submitted in triplicate to the Docket Management Facility (see ADDRESSES section for address and phone number). You may also submit comments through the Internet at http://www.regulations.gov.

Commenters wishing the FAA to acknowledge receipt of their comments on this action must submit with those comments a self-addressed, stamped postcard on which the following statement is made: “Comments to FAA Docket No. FAA-2017-0344, and Airspace Docket No. 17-AWP-11.” The postcard will be date/time stamped and returned to the commenter.

All communications received on or before the specified comment closing date will be considered before taking action on the proposed rule. The proposal contained in this action may be changed in light of comments received. All comments submitted will be available for examination in the public docket both before and after the comment closing date. A report summarizing each substantive public contact with FAA personnel concerned with this rulemaking will be filed in the docket.

Availability of NPRMs

An electronic copy of this document may be downloaded through the Internet at http://www.regulations.gov. Recently published rulemaking documents can also be accessed through the FAA's Web page at http://www.faa.gov/air_traffic/publications/airspace_amendments/.

You may review the public docket containing the proposal, any comments received and any final disposition in person in the Dockets Office (see ADDRESSES section for address and phone number) between 9:00 a.m. and 5:00 p.m., Monday through Friday, except Federal holidays. An informal docket may also be examined during normal business hours at the office of the Western Service Center, Operations Support Group, Federal Aviation Administration, 1601 Lind Ave. SW., Renton, WA 98057.

Availability and Summary of Documents for Incorporation by Reference

This document proposes to amend FAA Order 7400.11A, airspace Designations and Reporting Points, dated August 3, 2016, and effective September 15, 2016. FAA Order 7400.11A is publicly available as listed in the ADDRESSES section of this document. FAA Order 7400.11A lists Class A, B, C, D, and E airspace areas, air traffic service routes, and reporting points.

Background

On January 5, 2017, the FAA published in the Federal Register an NPRM (82 FR 1279), Docket No. FAA-2016-9264, proposing to modify and establish several airways due to the decommissioning of Manteca and Maxwell VOR facilities. Among those airways, the FAA proposed modifications to V-113 and V-244.

In the final rule, published on April 20, 2017, the FAA decided to delay the proposed changes to V-244 because more coordination was required. (82 FR 18551), Docket No. FAA-2016-9264. The FAA finalized V-113 as proposed in the NPRM with a gap in the route structure between Panoche, California and Linden, California. Prior to the effective date of June 22, 2017, and without notification to the public, the FAA inadvertently published navigational charts that reflected the gap in V-113 had been filled. Because this portion of the airway reflected on the chart was not properly established by rule, the FAA issued an out-of-service NOTAM for this segment until a rulemaking action could be completed.

The Proposal

The FAA is proposing an amendment to Title 14, Code of Federal Regulations (14 CFR) part 71 to modify V-113 and V-244. The proposed route changes are outlined below.

V-244: The FAA proposes to relocate the segment of the route from Oakland, CA by rerouting the airway approximately 10 nautical miles north of the previous airway until tied back into the previous route at Coaldale, NV. New legal description: From Oakland, CA; INT Oakland 077°(T) 060°(M) and Linden, CA, 246°(T) 229°(M) radials; Linden; 30 miles, 153 MSL, INT Linden 094°(T) 077°(M) and Hangtown, CA, 157°(T) 140°(M) radials; 58 miles, 153 MSL, INT Coaldale, CA, 267°(T) 250°(M) and Friant, CA, 022°(T) 005°(M) radials; 23 miles, 153 MSL, INT Coaldale 267°(T) 250°(M) and Bishop, CA, 337°(T) 322°(M) radials; 43 miles, 125 MSL, Coaldale, NV. The remaining portion of the route (from Coaldale, NV to Salina, KS) would be unchanged.

V-113: The FAA proposes fill the gap between Panoche, CA to Linden, CA by revising the legal description as follows. From Morro Bay, CA; Paso Robles, CA; Priest, CA; Panoche, CA; INT Modesto 208°(T) 191°(M) and El Nido 277°(T) 262°(M) radials; Modesto, CA; Linden, CA; NT Linden 046°(T) 029°(M) and Mustang, NV, 208°(T) 192°(M) radials; Mustang; 42 miles, 24 miles, 115 MSL, 95 MSL, Sod House, NV; 67 miles, 95 MSL, 85 MSL, Rome, OR; 61 miles, 85 MSL, Boise, ID; Salmon, ID; Coppertown, MT; Helena, MT; to Lewistown, MT.

VOR federal airways are published in paragraph 6010(a) of FAA Order 7400.11A dated August 3, 2016, and effective September 15, 2016, which is incorporated by reference in 14 CFR 71.1. The VOR federal airways listed in this document will be subsequently published in the Order.

Regulatory Notices and Analyses

The FAA has determined that this proposed regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11A, Airspace Designations and Reporting Points, dated August 3, 2016 and effective September 15, 2016, is amended as follows:

Paragraph 6010 Domestic VOR Federal Airways.

V-113 (Amended)

From Morro Bay, CA; Paso Robles, CA; Priest, CA; Panoche, CA; INT Modesto 208°(T) 191°(M) and El Nido 277°(T) 262°(M) radials; Modesto, CA; Linden, CA; INT Linden 046°(T) 029°(M) and Mustang, NV, 208°(T) 192°(M) radials; Mustang; 42 miles, 24 miles, 115 MSL, 95 MSL, Sod House, NV; 67 miles, 95 MSL, 85 MSL, Rome, OR; 61 miles, 85 MSL, Boise, ID; Salmon, ID; Coppertown, MT; Helena, MT; to Lewistown, MT.

* * * * *

V-244 (Amended)

From Oakland, CA; INT Oakland 077°(T) 060°(M) and Linden, CA, 246°(T) 229°(M) radials; Linden; 30 miles, 153 MSL, INT Linden 094°(T) 077°(M) and Hangtown, CA, 157°(T) 140°(M) radials; 58 miles, 153 MSL, INT Coaldale, CA, 267°(T) 250°(M) and Friant, CA, 022°(T) 005°(M) radials; 23 miles, 153 MSL, INT Coaldale 267°(T) 250°(M) and Bishop, CA, 337°(T) 322°(M) radials; 43 miles, 125 MSL, Coaldale, NV; Tonopah, NV; 40 miles, 115 MSL, Wilson Creek, NV; 28 miles, 115 MSL, Milford, UT; Hanksville, UT; 63 miles, 13 miles, 140 MSL, 36 miles, 115 MSL, Montrose, CO; Blue Mesa, CO; 33 miles, 122 MSL, 27 miles, 155 MSL, Pueblo, CO; 18 miles, 48 miles, 60 MSL, Lamar, CO; 20 miles, 116 miles, 65 MSL, Hays, KS; to Salina, KS. The airspace within R-2531A and R-2531B is excluded.

Issued in Washington, DC, on August 22, 2017.
Rodger A. Dean Jr.,
Manager, Airspace Policy Group.

[FR Doc. 2017-18325 Filed 8-29-17; 8:45 am]

BILLING CODE 4910-13-P